ENVIRONMENTAL PROTECTION AGENCY

40 CFR Part 55

[EPA-R03-OAR-2009-0238; FRL-9986-90-Region 3]

Outer Continental Shelf Air Regulations; Consistency Update for Delaware

AGENCY: Environmental Protection Agency.

ACTION: Proposed rule; consistency update.

SUMMARY: The Environmental Protection Agency (EPA) is proposing to update a portion of the Outer Continental Shelf (OCS) Air Regulations. Requirements applying to OCS sources located within 25 miles of states' seaward boundaries must be updated periodically to remain consistent with the requirements of the corresponding onshore area (COA), as mandated by section 328(a)(1) of the Clean Air Act (CAA). The portion of the OCS air regulations that is being updated pertains to the requirements for OCS sources for which Delaware is the designated COA. The State of Delaware's requirements discussed in this document are proposed to be incorporated by reference into the Code of Federal Regulations and listed in the appendix to the OCS air regulations.

DATES: Written comments must be received on or before January 2, 2019.

ADDRESSES: Submit your comments, identified by Docket ID No. EPA-R03-OAR-2009-0238 at http://www.regulations.gov, or via email to maldonado.zelma@epa.gov. For comments submitted at Regulations.gov, follow the online instructions for submitting comments. Once submitted, comments cannot be edited or removed from Regulations.gov. For either manner of submission, EPA may publish any comment received to its public docket. Do not submit electronically any information you consider to be confidential business information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Amy Johansen, (215) 814-2156, or by email at johansen.amy@epa.gov.

SUPPLEMENTARY INFORMATION:

I. Background

On September 4, 1992, EPA promulgated 40 CFR part 55,¹ which established requirements to control air pollution from OCS sources in order to attain and maintain Federal and state ambient air quality standards and to comply with the provisions of part C of title I of the CAA. The regulations at 40 CFR part 55 apply to all OCS sources except those located in the Gulf of Mexico west of 87.5 degrees longitude. See 40 CFR 55.3(a). Section 328 of the CAA requires that for such sources located within 25 miles of a state's seaward boundary, the requirements shall be the same as would be applicable if the sources were located in the COA. Because the OCS requirements are based on onshore requirements, and onshore requirements may change, section 328(a)(1) requires that EPA update the OCS requirements as necessary to maintain consistency with onshore requirements.

¹ The reader may refer to the Notice of Proposed Rulemaking, December 5, 1991 (56 FR 63774), and the preamble to the final rule promulgated September 4, 1992 (57 FR 40792) for further background and information on the OCS regulations.

Pursuant to 40 CFR 55.12, consistency reviews will occur (1) at least annually; (2) upon receipt of a Notice of Intent (NOI) under 40 CFR 55.4; or (3) when a state or local agency submits a rule to EPA to be considered for incorporation by reference in 40 CFR part 55. This proposed action is being taken in response to the submittal of a NOI on August 8, 2018, by Deepwater Wind, LLC on behalf of Garden State Offshore Energy, LLC for the proposed installation of a meteorological buoy for the purposes of gathering meteorological data to support development of offshore wind projects. Public comments received in writing within 30 days of publication of this document will be considered by EPA before publishing a final rule.

Section 328(a) of the CAA requires that EPA establish requirements to control air pollution from OCS sources located within 25 miles of States' seaward boundaries that are the same as onshore requirements. To comply with this statutory mandate, EPA must incorporate applicable onshore rules into 40 CFR part 55 as they exist onshore. This limits EPA's flexibility in deciding which requirements will be incorporated into 40 CFR part 55 and prevents EPA from making substantive changes to the requirements it incorporates. As a result, EPA may be incorporating rules into 40 CFR part 55 that do not conform to all of EPA's state implementation plan (SIP) guidance or certain requirements of the CAA. Consistency updates may result in the inclusion of state or local rules or regulations into 40 CFR part 55, even though the same rules may ultimately be disapproved for inclusion as part of the SIP. Inclusion in the OCS rule does not imply that a rule meets the requirements of the CAA for SIP approval, nor does it imply that the rule will be approved by EPA for inclusion in the SIP.

II. EPA Analysis

EPA reviewed Delaware's rules for inclusion in 40 CFR part 55 to ensure that they are rationally related to the attainment or maintenance of Federal or state ambient air quality standards and compliance with part C of title I of the CAA, that they are not designed expressly to prevent exploration and development of the OCS, and that they are potentially applicable to OCS sources. See 40 CFR 55.1. EPA has also evaluated the rules to ensure they are not arbitrary or capricious. See 40 CFR 55.12(e). In addition, EPA has excluded administrative or procedural rules,² and requirements that regulate toxics which are not related to the attainment and maintenance of Federal and state ambient air quality standards.

² Each COA which has been delegated the authority to implement and enforce 40 CFR part 55 will use its administrative and procedural rules as onshore. However, in those instances where EPA has not delegated authority to implement and enforce 40 CFR part 55, EPA will use its own administrative and procedural requirements to implement the substantive requirements. See 40 CFR 55.14(c)(4).

EPA is soliciting public comments on the issues discussed in this document or on other relevant matters. These comments will be considered before taking final action. Interested parties may participate in the Federal rulemaking procedure by submitting written comments to the EPA Regional Office listed in the ADDRESSES section of this Federal Register.

III. Proposed Action

EPA is proposing to incorporate the rules potentially applicable to sources for which the State of Delaware will be the COA. The rules that EPA proposes to incorporate are applicable provisions of Title 7 of the Delaware Administrative Code, specifically, Air Quality Management Section 1100. The rules EPA proposes to incorporate are listed in detail at the end of the document. The intended effect of proposing approval of the OCS requirements for the Delaware Department of Natural Resources and Environmental Control (DNREC) is to regulate emissions from OCS sources in accordance with the requirements for onshore sources.

IV. Incorporation by Reference

In this document, EPA is proposing to include in a final EPA rule regulatory text that includes incorporation by reference. In accordance with the requirements of 1 CFR 51.5, EPA is proposing to incorporate by reference Title 7 of the Delaware Administrative Code set forth below. EPA has made, and will continue to make, these materials available through www.regulations.gov and at the EPA Region III Office (please contact the person identified in the For Further Information Contact section of this preamble for more information).

V. Statutory and Executive Order Reviews

Under the Clean Air Act, the Administrator is required to establish requirements to control air pollution from OCS sources located within 25 miles of states' seaward boundaries that are the same as onshore air pollution control requirements. To comply with this statutory mandate, the EPA must incorporate applicable onshore rules into 40 CFR part 55 as they exist onshore. See 42 U.S.C. 7627(a)(1); 40 CFR 55.12. Thus, in promulgating OCS consistency updates, EPA's role is to maintain consistency between OCS regulations and the regulations of onshore areas, provided that they meet the criteria of the CAA. Accordingly, this action simply updates the existing OCS requirements to make them consistent with requirements onshore, without the exercise of any policy direction by EPA. For that reason, this proposed action:

• Is not a “significant regulatory action” subject to review by the Office of Management and Budget under Executive Orders 12866 (58 FR 51735, October 4, 1993) and 13563 (76 FR 3821, January 21, 2011);

• Is not an Executive Order 13771 regulatory action because this action is not significant under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this proposed rule incorporating by reference sections of Title 7 of the Delaware Administrative Code, does not have tribal implications as specified by Executive Order 13175 (65 FR 67249, November 9, 2000), because this action is not approved to apply in Indian country located in the state, and EPA notes that it will not impose substantial direct costs on tribal governments or preemptive tribal law.

Under the provisions of the Paperwork Reduction Act, 44 U.S.C 3501 et seq., an agency may not conduct or sponsor, and a person is not required to respond to, a collection of information unless it displays a currently valid OMB control number. OMB has approved the information collection requirements contained in 40 CFR part 55 and, by extension, this update to the rules, and has assigned OMB control number 2060-0249. OMB approved the EPA Information Collection Request (ICR) No. 1601.08 on September 18, 2017.³ The current approval expires September 30, 2020. The annual public reporting and recordkeeping burden for collection of information under 40 CFR part 55 is estimated to average 643 hours per response, using the definition of burden provided in 44 U.S.C. 3502(2).

³ OMB's approval of the ICR can be viewed at www.reginfo.gov.

EPA is proposing to incorporate the rules potentially applicable to sources for which the State of Delaware will be the COA. The rules that EPA proposes to incorporate are applicable provisions of Title 7 of the Delaware Administrative Code, specifically, Air Quality Management Section 1100.

List of Subjects in 40 CFR Part 55

Environmental protection, Administrative practice and procedure, Air pollution control, Carbon monoxide, Incorporation by reference, Intergovernmental relations, Lead, Nitrogen dioxide, Outer continental shelf, Ozone, Particulate matter, Permits, Reporting and recordkeeping requirements, Sulfur oxides, Volatile organic compounds.

Dated: November 13, 2018.
Cosmo Servidio,
Regional Administrator, Region III.

Part 55 of Chapter I, title 40 of the Code of Federal Regulations is proposed to be amended as follows:

PART 55—OUTER CONTIENTAL SHELF AIR REGULATIONS

1. The authority citation for part 55 continues to read as follows:

Authority: Section 328 of the Clean Air Act (42 U.S.C. 7401 et seq.) as amended by Public Law 101-549.

2. Section 55.14 is amended by adding paragraphs (d)(5)(i)(A) and (B) to read as follows:

§ 55.14 Requirements that apply to OCS sources located within 25 miles of States' seaward boundaries, by State.

* * * * *

(d) * * *

(5) * * *

(i) * * *

(A) State of Delaware Requirements Applicable to OCS Sources, November 11, 2018.

(B) [Reserved]

* * * * *

3. Appendix A to part 55 is amended by revising paragraph (a)(1) under the heading “Delaware” to read as follows:

Appendix A to Part 55—Listing of State and Local Requirements Incorporated by Reference Into Part 55, by State

* * * * *

Delaware

(a) * * *

(1) The following State of Delaware requirements are applicable to OCS Sources, November 11, 2018, State of Delaware—Department of Natural Resources and Environmental Control.

The following sections of Title 7 Delaware Administrative Code 1100—Air Quality Management Section:

7 DE Admin. Code 1101: Definitions and Administrative Principals

Section 1.0: General Provisions (Effective 02/01/1981)

Section 2.0: Definitions (Effective 12/11/2016)

Section 3.0: Administrative Principals (Effective 11/11/2013)

Section 4.0: Abbreviations (Effective 02/01/1981)

7 DE Admin. Code 1102: Permits

Section 1.0: General Provisions (Effective 06/11/2006)

Section 2.0: Applicability (Effective 06/11/2006)

Section 3.0: Application/Registration Prepared by Interested Party (Effective 06/01/1997)

Section 4.0: Cancellation of Construction Permits (Effective 06/01/1997)

Section 5.0: Action on Applications (Effective 06/01/1997)

Section 6.0: Denial, Suspension or Revocation of Operating Permits (Effective 06/11/2006)

Section 7.0: Transfer of Permit/Registration Prohibited (Effective 06/01/1997)

Section 8.0: Availability of Permit/Registration (Effective 06/01/1997)

Section 9.0: Registration Submittal (Effective 06/01/1997)

Section 10.0: Source Category Permit Application (Effective 06/01/1997)

Section 11.0: Permit Application (Effective 06/11/2006)

Section 12.0: Public Participation (Effective 06/11/2006)

Section 13.0: Department Records (Effective 06/01/1997)

Appendix A (Effective 06/11/2006)

7 DE Admin. Code 1103: Ambient Air Quality Standards

Section 1.0: General Provisions (Effective 01/11/2014)

Section 2.0: General Restrictions (Effective 02/01/1981)

Section 3.0: Suspended Particulates (Effective 02/01/1981)

Section 4.0: Sulfur Dioxide (Effective 01/11/2014)

Section 5.0: Carbon Monoxide (Effective 02/01/1981)

Section 6.0: Ozone (Effective 01/11/2014)

Section 7.0: Hydrocarbons (Effective 02/01/1981)

Section 8.0: Nitrogen Dioxide (Effective 01/11/2014)

Section 9.0: Hydrogen Sulfide (Effective 02/01/1981)

Section 10.0: Lead (Effective 01/11/2014)

Section 11.0: PM10 and PM2.5 Particulates (Effective 01/11/2014)

7 DE Admin. Code 1104: Particulate Emissions From Fuel Burning Equipment

Section 1.0: General Provisions (Effective 01/11/2017)

Section 2.0: Emission Limits (Effective 01/11/2017)

7 DE Admin. Code 1105: Particulate Emissions From Industrial Process Operations

Section 1.0: General Provisions (Effective 01/11/2017)

Section 2.0: General Restrictions (Effective 01/11/2017)

Section 3.0: Restrictions on Hot Mix Asphalt Batching Operations (Effective 02/01/1981)

Section 4.0: Restrictions on Secondary Metal Operations (Effective 01/11/2017)

Section 5.0: Restrictions on Petroleum Refining Operations (Effective 01/11/2017)

Section 6.0: Restrictions on Prill Tower Operations (Effective 02/01/1981)

Section 7.0: Control of Potentially Hazardous Particulate Matter (Effective 02/01/1981)

7 DE Admin. Code 1106: Particulate Emissions From Construction and Materials Handling

Section 1.0: General Provisions (Effective 02/01/1981)

Section 2.0: Demolition (Effective 02/01/1981)

Section 3.0: Grading, Land Clearing, Excavation and Use of Non-Paved Roads (Effective 02/01/1981)

Section 4.0: Material Movement (Effective 02/01/1981)

Section 5.0: Sandblasting (Effective 02/01/1981)

Section 6.0: Material Storage (Effective 02/01/1981)

7 DE Admin. Code 1107: Emissions From Incineration of Noninfectious Waster

Section 1.0: General Provisions (Effective 10/13/1989)

Section 2.0: Restrictions (Effective 10/13/1989)

7 DE Admin. Code 1108: Sulfur Dioxide Emissions From Fuel Burning Equipment

Section 1.0: General Provisions (Effective 07/11/2013)

Section 2.0: Limit on Sulfur Content of Fuel (Effective 07/11/2013)

Section 3.0: Emission Control in Lieu of Sulfur Content Limits of 2.0 of This Regulation (Effective 07/11/2013)

Section 4.0: Sampling and Testing Methods and Requirements (Effective 07/11/2013)

Section 5.0: Recordkeeping and Reporting (Effective 07/11/2013)

7 DE Admin. Code 1109: Emissions of Sulfur Compounds From Industrial Operations

Section 1.0: General Provisions (Effective 05/09/1985)

Section 2.0: Restrictions on Sulfuric Acid Manufacturing Operations (Effective 02/01/1981)

Section 3.0: Restriction on Sulfuric Recovery Operations (Effective 02/01/1981)

Section 4.0: Stack Height Requirements (Effective 02/01/1981)

7 DE Admin. Code 1110: Control of Sulfur Dioxide Emissions—Kent and Sussex Counties

Section 1.0: Requirements for Existing Sources of Sulfur Dioxide (Effective 01/18/1982)

Section 2.0: Requirements for New Sources of Sulfur Dioxide (Effective 02/01/1981)

7 DE Admin. Code 1111: Carbon Monoxide Emissions From Industrial Process Operations New Castle County

Section 1.0: General Provisions (Effective 02/01/1981)

Section 2.0: Restrictions on Petroleum Refining Operations (Effective 02/01/1981)

7 DE Admin. Code 1112: Control of Nitrogen Oxide Emissions

Section 1.0: Applicability (Effective 11/24/1993)

Section 2.0: Definitions (Effective 11/24/1993)

Section 3.0: Standards (Effective 11/24/1993)

Section 4.0: Exemptions (Effective 11/24/1993)

Section 5.0: Alternative and Equivalent RACT Determinations (11/24/1993)

Section 6.0: RACT Proposals (11/24/1993)

Section 7.0: Compliance Certification, Recordkeeping, and Reporting Requirements (Effective 11/24/1993)

7 DE Admin. Code 1113: Open Burning

Section 1.0: Purpose (Effective 04/11/2007)

Section 2.0: Applicability (Effective 04/11/2007)

Section 3.0: Definitions (Effective 04/11/2007)

Section 4.0: Prohibitions and Related Provisions (Effective 04/11/2007)

Section 5.0: Season and Time Restrictions (Effective 04/11/2007)

Section 6.0: Allowable Open Burning (Effective 04/11/2007)

Section 7.0: Exemptions (Effective 04/11/2007)

7 DE Admin. Code 1114: Visible Emissions

Section 1.0: General Provisions (Effective 11/11/2013)

Section 2.0: Requirements (Effective 05/11/2018)

Section 3.0: Alternate Opacity Requirements (Effective 07/17/1984)

Section 4.0: Compliance With Opacity Standards (Effective 07/17/1984)

7 DE Admin. Code 1115: Air Pollution Alert and Emergency Plan

Section 1.0: General Provisions (Effective 07/17/1984)

Section 2.0: Stages and Criteria (Effective 03/29/1988)

Section 3.0: Required Actions (Effective 02/01/1981)

Section 4.0: Standby Plans (Effective 02/01/1981)

7 DE Admin. Code 1116: Sources Having an Interstate Air Pollution Potential

Section 1.0: General Provisions (Effective 02/01/1981)

Section 2.0: Limitations (Effective 02/01/1981)

Section 3.0: Requirements (Effective 02/01/1981)

7 DE Admin. Code 1117: Source Monitoring, Record Keeping and Reporting

Section 1.0: Definitions and Administrative Principals (Effective 01/11/1993)

Section 2.0: Sampling and Monitoring (Effective 07/17/1984)

Section 3.0: Minimum Emissions Monitoring Requirements For Existing Sources (Effective 07/17/1984)

Section 4.0: Performance Specifications (Effective 07/17/1984)

Section 5.0: Minimum Data Requirements (Effective 07/17/1984)

Section 6.0: Data Reduction (Effective 07/17/1984)

Section 7.0: Emission Statement (Effective 01/11/1993)

7 DE Admin. Code 1120: New Source Performance Standards

Section 1.0: General Provisions (Effective 12/07/1988)

Section 2.0: Standards of Performance for Fuel Burning Equipment (Effective 04/18/1983)

Section 3.0: Standards of Performance for Nitric Acid Plants (Effective 04/18/1983)

Section 5.0: Standards of Performance for Asphalt Concrete Plants (Effective 04/18/1983)

Section 6.0: Standards of Performance for Incinerators (Effective 04/18/1983)

Section 7.0: Standards of Performance for Sewage Treatment Plants (Effective 04/18/1983)

Section 8.0: Standards of Performance for Sulfuric Acid Plants (Effective 04/18/1983)

Section 9.0: Standards of Performance for Electric Utility Steam Generating Units for Which Construction is Commenced After September 18, 1978 (Effective 04/18/1983)

Section 10.0: Standards of Performance for Stationary Gas Turbines (Effective 11/27/1985)

Section 11.0: Standards of Performance for Petroleum Refineries (Effective 11/27/1985)

Section 12.0: Standards of Performance for Steel Plants: Electric Arc Furnaces (Effective 11/27/1985)

Section 20.0: Standards of Performance for Bulk Gasoline Terminals (Effective 11/27/1985)

Section 22.0: Standards of Performance for Equipment Leaks at Petroleum Refineries (Effective 11/27/1985)

Section 27.0: Standards of Performance for Volatile Organic Liquid Storage Vessels (Including Petroleum Liquid Storage Vessels) for Which Construction, Reconstruction, or Modification Commenced after July 23, 1984 (Effective 12/07/1988)

Section 28.0: Standards of Performance for Municipal Solid Waste Landfills (Effective 04/11/1998)

Section 30.0: Standards of Performance for Municipal Solid Waste Landfills after July 11, 2017 (Effective 07/11/2017)

7 DE Admin. Code 1122: Restriction on Quality of Fuel in Fuel Burning Equipment

Section 1.0: Prohibition of Waste Oil (Effective 11/27/1985)

7 DE Admin. Code 1124: Control of Volatile Organic Compounds

Section 1.0: General Provisions (Effective 01/11/2017)

Section 2.0: Definitions (Effective 04/11/2010)

Section 3.0: Applicability (Effective 01/11/1993)

Section 4.0: Compliance, Certification, Recordkeeping, and Reporting Requirements for Coating Sources (Effective 11/29/1994)

Section 5.0: Compliance, Certification, Recordkeeping, and Reporting Requirements for Non-Coating Sources (Effective 01/11/1993)

Section 6.0: General Recordkeeping (Effective 01/11/1993)

Section 7.0: Circumvention (Effective 01/11/1993)

Section 8.0: Handling, Storage, and Disposal of Volatile Organic Compounds (VOCs) (Effective 03/11/2011)

Section 9.0: Compliance, Permits, Enforceability (Effective 01/11/1993)

Section 10.0: Aerospace Coatings (Effective 02/11/2003)

Section 11.0: Mobile Equipment Repair and Refinishing (Effective 10/11/2010)

Section 12.0: Surface Coating of Plastic Parts (Effective 10/11/2011)

Section 13.0: Automobile and Light-Duty Truck Coating Operations (Effective 03/11/2011)

Section 14.0: Can Coating (Effective 01/11/1993)

Section 15.0: Coil Coating (Effective 01/11/1993)

Section 16.0: Paper, Film, and Foil Coating (Effective 03/11/2011)

Section 17.0: Fabric Coating (Effective 01/11/1993)

Section 18.0: Vinyl Coating (Effective 01/11/1993)

Section 19.0: Coating of Metal Furniture (Effective 10/11/2011)

Section 20.0: Coating of Large Appliances (Effective 10/11/2011)

Section 21.0: Coating of Magnet Wire (Effective 11/29/1994)

Section 22.0: Coating of Miscellaneous Metal Parts (Effective 10/11/2011)

Section 23.0: Coating of Flat Wood Paneling (Effective 03/11/2011)

Section 24.0: Bulk Gasoline Plants (Effective 01/11/1993)

Section 25.0: Bulk Gasoline Terminals (Effective 11/29/1994)

Section 26.0: Gasoline Dispensing Facility Stage I Vapor Recovery (Effective 01/11/2002)

Section 27.0: Gasoline Tank Trucks (Effective 01/11/1993)

Section 28.0: Petroleum Refinery Sources (Effective 01/11/1993)

Section 29.0: Leaks from Petroleum Refinery Equipment (Effective 11/29/1994)

Section 30.0: Petroleum Liquid Storage in External Floating Roof Tanks (Effective 11/29/1994)

Section 31.0: Petroleum Liquid Storage in Fixed Roof Tanks (Effective 11/29/1994)

Section 32.0: Leaks from Natural Gas/Gasoline Processing Equipment (Effective 11/29/1994)

Section 33.0: Solvent Cleaning and Drying (Effective 11/11/2001)

Section 34.0: Cutback and Emulsified Asphalt (Effective 01/11/1993)

Section 35.0: Manufacture of Synthesized Pharmaceutical Products (Effective 11/29/1994)

Section 36.0: Vapor Emission Control at Gasoline Dispensing Facilities (Effective 09/11/2015)

Section 37.0: Graphic Arts Systems (Effective 03/11/2011)

Section 38.0: Petroleum Solvent Dry Cleaners (Effective 01/11/1993)

Section 40.0: Leaks from Synthetic Organic Chemical, Polymer, and Resin Manufacturing Equipment (Effective 01/11/1993)

Section 41.0: Manufacture of High-Density Polyethylene, Polypropylene, and Polystyrene Resins (Effective 01/11/1993)

Section 42.0: Air Oxidation Processes in the Synthetic Organic Chemical Manufacturing Industry (Effective 01/11/1993)

Section 43.0: Bulk Gasoline Marine Tank Vessel Loading Facilities (Effective 08/08/1994)

Section 44.0: Batch Processing Operations (Effective 11/29/1994)

Section 45.0: Industrial Cleaning Solvents (Effective 03/11/2011)

Section 46.0: Crude Oil Lightering Operations (Effective 05/11/2007)

Section 47.0: Offset Lithographic Printing (Effective 04/11/2011)

Section 48.0: Reactor Processes and Distillation Operations in the Synthetic Organic Chemical Manufacturing Industry (Effective 11/29/1994)

Section 49.0: Control of Volatile Organic Compound Emissions from Volatile Organic Liquid Storage Vessels (Effective 11/29/1994)

Section 50.0: Other Facilities that Emit Volatile Organic Compounds (VOCs) (Effective 11/29/1994)

7 DE Admin. Code 1124: Control of Organic Compound Emissions—Appendices

Appendix A General Provisions: Test Methods and Compliance Procedures (Effective 11/29/1994)

Appendix B: Determining the Volatile Organic Compound (VOC) Content of Coatings and Inks (Effective 11/29/1994)

Appendix C: Alternative Compliance Methods for Surface Coating (Effective 11/29/1994)

Appendix D: Emission Capture and Destruction or Removal Efficiency and Monitoring Requirements (Effective 11/29/1994)

Method 30: Criteria for and Verification of a Permanent or Temporary Total Enclosure (Effective 11/29/1994)

Method 30A: Volatile Organic Compounds Content in Liquid Input Stream (Effective 11/29/1994)

Method 30B: Volatile Organic Compounds Emissions in Captured Stream (Effective 11/29/1994)

Method 30C: Volatile Organic Compounds Emissions in Captured Stream (Dilution Technique) (Effective 11/29/1994)

Method 30D: Volatile Organic Compounds Emissions in Fugitive Stream from Temporary Total Enclosure (Effective 11/29/1994)

Method 30E: Volatile Organic Compounds Emissions in Fugitive Stream from Building Enclosure (Effective 11/29/1994)

Appendix E: Determining the Destruction or Removal Efficiency of a Control Device (Effective 11/29/1994)

Appendix F: Leak Detection Methods for Volatile Organic Compounds (VOCs) (Effective 11/29/1994)

Appendix G: Performance Specifications for Continuous Emissions Monitoring of Total Hydrocarbons (Effective 11/29/1994)

Appendix H: Quality Control Procedures for Continuous Emission Monitoring Systems (CEMS) (Effective 11/29/1994)

Appendix I: Method to Determine Length of Rolling Period for Liquid/Liquid Material Balance (Effective 11/29/1994)

Appendix K: Emissions Estimation Methodologies (Effective 11/29/1994)

Appendix L: Method to Determine Total Organic Carbon for Offset Lithographic Solutions (Effective 11/29/1994)

Appendix M: Test Method for Determining the Performance of Alternative Cleaning Fluids (Effective 11/29/1994)

7 DE Admin. Code 1125: Requirements for Preconstruction Review

Section 1.0: General Provisions (Effective 12/11/2016)

Section 2.0: Emission Offset Provisions (EOP) (Effective 02/11/2012) ⁴

⁴ On October 20, 2016, EPA disapproved Delaware's emissions offset provisions. See 81 FR 72529. EPA last approved Regulation 1125, Section 2.0 for the Delaware SIP on October 2, 2012, these emission offset provisions address requirements in CAA 173(c)(1), 40 CFR 51.165, and part 51, appendix S, section IV.D. The State effective date of this version of Regulation 1125, Section 2.0, Emission Offset Provisions was February 11, 2012, and it is this version of Regulation 1125, Section 2.0 that Delaware is required to implement and EPA is proposing to incorporate by reference into 40 CFR part 55 in this rulemaking action. See 77 FR 60053.

Section 3.0: Prevention of Significant Deterioration of Air Quality (Effective 12/11/2016)

Section 4.0: Minor New Source Review (MNSR) (Effective 12/11/2016)

7 DE Admin. Code 1127: Stack Heights

Section 1.0: General Provisions (Effective 07/06/1982)

Section 2.0: Definitions Specific to this Regulation (Effective 12/07/1988)

Section 3.0: Requirements for Existing and New Sources (Effective 02/18/1987)

Section 4.0: Public Notification (Effective 02/18/1987)

7 DE Admin. Code 1129: Emissions From Incineration of Infectious Waste

Section 1.0: General Provisions (Effective 10/13/1989)

Section 2.0: Exemptions (Effective 10/13/1989)

Section 3.0: Permit Requirements (Effective 10/13/1989)

Section 4.0: Methods of Treatment and Disposal (Effective 10/13/1989)

Section 5.0: Recordkeeping and Reporting Requirements (Effective 10/13/1989)

Section 6.0: Evidence of Effectiveness of Treatment (Effective 10/13/1989)

Section 7.0: Incineration (Effective 10/13/1989)

7 DE Admin. Code 1130: Title V Operating Permit Program

Section 1.0: Program Overview (Effective 12/11/2010)

Section 2.0: Definitions (Effective 11/15/1993)

Section 3.0: Applicability (Effective 11/15/1993)

Section 5.0: Permit Applications (Effective 11/15/1993)

Section 6.0: Permit Contents (Effective 12/11/2000)

Section 7.0: Permit Issuance, Renewal, Reopening, and Revisions (Effective 12/11/2000)

Section 8.0: Permit Review by EPA and Affected States (Effective 11/15/1993)

Section 9.0: Permit Fees (Effective 11/15/1993)

Appendix A: Insignificant Activities (Effective 11/15/1993)

7 DE Admin. Code 1132: Transportation Conformity

Section 1.0: Purpose (Effective 11/11/2007)

Section 2.0: Definitions (Effective 11/11/2007)

Section 3.0: Consultation (Effective 11/11/2007)

Section 4.0: Written Commitments for Control and Mitigation Measures (Effective 11/11/2007)

7 DE Admin Code 1134: Emission Banking and Trading Program

Section 1.0: Program Overview (Effective 10/06/1997)

Section 2.0: Definitions (Effective 10/06/1997)

Section 3.0: Applicability (Effective 10/06/1997)

Section 4.0: Generating an Emission Reduction (Effective 10/06/1997)

Section 5.0: Application for Certification of an Emission Reduction as an ERC (Effective 10/06/1997)

Section 6.0: Source Baseline (Effective 10/06/1997)

Section 7.0: Post-Reduction Emission Rate (Effective 10/06/1997)

Section 8.0: Certification of an Emission Reduction (Effective 11/11/2018)

Section 9.0: Trading and Use of ERCs (Effective 10/06/1997)

Section 10.0: Record Keeping Requirements (Effective 10/06/1997)

Section 11.0: ERC Banking System (Effective 10/06/1997)

Section 12.0: Fees (Effective 10/06/1997)

Section 13.0: Enforcement (Effective 10/06/1997)

Section 14.0: Program Evaluation and Individual Audits (Effective 10/06/1997)

7 DE Admin. Code 1135: Conformity of General Federal Actions to the State Implementation Plans

Section 1.0: Purpose (Effective 08/14/1996)

Section 2.0: Definitions (Effective 08/14/1996)

Section 3.0: Applicability (Effective 08/14/1996)

Section 4.0: Conformity Analysis (Effective 08/14/1996)

Section 5.0: Reporting Requirements (Effective 08/14/1996)

Section 6.0: Public Participation and Consultation (Effective 08/14/1996)

Section 7.0: Frequency of Conformity Determinations (Effective 08/14/1996)

Section 8.0: Criteria for Determining Conformity of General Federal Actions (Effective 08/14/1996)

Section 9.0: Procedures for Conformity Determinations of General Federal Actions (Effective 08/14/1996)

Section 10.0: Mitigation of Airy Quality Impacts (Effective 08/14/1996)

Section 11.0: Savings Provision (Effective 08/14/1996)

7 DE Admin. Code 1140: Delaware Low Emission Vehicle Program

Section 1.0: Purpose (Effective 12/11/2013)

Section 2.0: Applicability (Effective 12/11/2013)

Section 3.0: Definitions (Effective 03/11/2018)

Section 4.0: Emission Certification Standards (Effective 12/11/2013)

Section 5.0: New Vehicle Emission Requirements (Effective 03/11/2018)

Section 6.0: Manufacturer Fleet Requirements (Effective 12/11/2013)

Section 7.0: Warranty (Effective 03/11/2018)

Section 8.0: Reporting and Record-Keeping Requirements (Effective 12/11/2013)

Section 9.0: Enforcement (Effective 12/11/2013)

Section 10.0: Incorporation by Reference (Effective 03/11/2018)

Section 11.0: Document Availability (Effective 03/11/2018)

Section 12.0: Severability (Effective 12/11/2013)

7 DE Admin. Code 1141: Limiting Emissions of Volatile Organic Compounds From Consumer and Commercial Products

Section 1.0: Architectural and Industrial Maintenance Coatings (Effective 12/11/2016)

Section 2.0: Consumer Products (Effective 02/11/2016)

Section 3.0: Portable Fuel Containers (Effective 04/11/2010)

Section 4.0: Adhesives and Sealants (Effective 04/11/2009)

7 DE Admin. Code 1142: Specific Emission Control Requirements

Section 1.0: Control of NOX Emissions from Industrial Boilers (Effective 12/12/2001)

7 DE Admin. Code 1144: Control of Stationary Generator Emissions

Section 1.0: General (Effective 01/11/2006)

Section 2.0: Definitions (Effective 01/11/2006)

Section 3.0: Emissions (Effective 01/11/2006)

Section 4.0: Operating Requirements (Effective 01/11/2006)

Section 5.0: Fuel Requirements (Effective 01/11/2006)

Section 6.0: Record Keeping and Reporting (Effective 01/11/2006)

Section 7.0: Emissions Certification, Compliance, and Enforcement (Effective 01/11/2006)

Section 8.0: Credit for Concurrent Emissions Reductions (Effective 01/11/2006)

Section 9.0: DVFA Member Companies (Effective 01/11/12006)

7 DE Admin. Code 1145: Excessive Idling of Heavy Duty Vehicles

Section 1.0: Applicability (Effective 04/11/2005)

Section 2.0: Definitions (Effective 04/11/2005)

Section 3.0: Severability (Effective 04/11/2005)

Section 4.0: Operational Requirements for Heavy Duty Motor Vehicles (Effective 04/11/2005)

Section 5.0: Exemptions (Effective 04/11/2005)

Section 6.0: Enforcement and Penalty (Effective 04/11/2005)

7 DE Admin. Code 1146: Electric Generating Unit (EGU) Milti-Pollutant Regulation

Section 1.0: Preamble (Effective 12/11/2006)

Section 2.0: Applicability (Effective 12/11/2006)

Section 3.0: Definitions (Effective 12/11/2006)

Section 4.0: NOX Emissions Limitations (Effective 12/11/2006)

Section 5.0: SO2 Emissions Limitations (Effective 12/11/2006)

Section 6.0: Mercury Emissions Limitations (Effective 12/11/2006)

Section 7.0: Record Keeping and Reporting (Effective 12/11/2006)

Section 8.0: Compliance Plan (Effective 12/11/2006)

Section 9.0: Penalties (Effective 12/11/2006)

7 DE Admin. Code 1147: CO2 Budget Trading Program

Section 1.0: CO2 Budget Trading Program General Provisions (Effective 12/11/2013)

Section 2.0: CO2 Authorized Account Representative for CO2 Budget Source (Effective 11/11/2008)

Section 3.0: Permits (Effective 11/11/2018)

Section 4.0: Compliance Certification (Effective 12/11/2013)

Section 5.0: CO2 Allowance Allocations (Effective 12/11/2013)

Section 6.0: CO2 Allowance Tracking System (Effective 12/11/2013)

Section 7.0: CO2 Allowance Transfers (Effective 12/11/2013)

Section 8.0: Monitoring and Reporting (Effective 12/11/2013)

Section 9.0: Auction of CO2 CCR allowances (Effective 12/11/2013)

Section 10.0: CO2 Emissions Offset Projects (Effective 12/11/2013)

Section 11.0: CO2 Emissions Auction (Effective 12/11/2013)

7 DE Admin. Code 1148: Control of Stationary Combustion Turbine Electric Generating Unit Emissions

Section 1.0: Purpose (Effective 07/11/2007)

Section 2.0: Applicability (Effective 07/11/2007)

Section 3.0: Definitions (Effective 07/11/2007)

Section 4.0: NOX Emissions Limitations (Effective 07/11/2007)

Section 5.0: Monitoring and Reporting (Effective 07/11/2007)

Section 6.0: Recordkeeping (Effective 07/11/2007)

Section 7.0: Penalties (Effective 07/11/2007)

(2) [Reserved]

* * * * *

[FR Doc. 2018-25886 Filed 11-30-18; 8:45 am]

BILLING CODE 6560-50-P